DEPARTMENT OF HOMELAND SECURITY

Coast Guard

[USCG-2005-22850]

Environmental Assessment and Draft Finding of No Significant Impact for the Decommissioning and Excessing of the U.S. Coast Guard Cutter MACKINAW (WAGB-83)

AGENCY: Coast Guard, DHS.

ACTION: Notice of availability and request for comments.

SUMMARY: The U.S. Coast Guard (USCG) announces the availability of the Environmental Assessment (EA) and Draft Finding of No Significant Impact (FONSI) for the Decommissioning and excessing of the U.S. Coast Guard Cutter USCGC MACKINAW (WAGB-83) in Cheboygan, Michigan and invites comments as part of the National Environmental Policy Act (NEPA) process. The EA evaluates the environmental and socioeconomic impacts of the Proposed Action. The Draft FONSI records the USCG's determination that the Proposed Action would have no significant impact on the environment. The U.S. Coast Guard also announces the development of a Memorandum of Agreement to resolve potential adverse effects to a historic property and invites comments as part of the public involvement process under Section 106 of the National Historic Preservation Act (NHPA).

DATES: Comments and related material must reach Coast Guard Headquarters on or before November 26, 2005.

ADDRESSES: Please submit comments by only one of the following means, and in choosing among the options for submitting your comments, please give due regard to any difficulties and delays associated with delivery of mail through the U.S. Postal Service to Federal facilities:

(1) Electronically to Susan Hathaway at SHathaway@comdt.uscg.mil

(2) By delivery to Commandant, United States Coast Guard Office of Logistics and Engineering, Environmental Management (CG-443), 2100 Second St. SW., Rm. 6109, Washington, DC 20593 Attn: S. Hathaway.

(3) By fax send to Susan Hathaway at (202) 267-4219.

FOR FURTHER INFORMATION CONTACT: Commandant, United States Coast Guard, Office of Logistics and Engineering, Environmental Management (CG-443), 2100 Second St. SW., Rm. 6109, Washington, DC 20593 ATTN: Susan Hathaway, or send by fax at (202) 267-4219 or by e-mail at SHathaway@comdt.uscg.mil.

To view and download the EA and Draft FONSI, please go to http://www.uscg.mil/systems/gse/gsec-3H.htm and scroll down the left side to: Planning—NEPA, and then to USCGC MACKINAW.

SUPPLEMENTARY INFORMATION:

Request for Comments

We encourage you to submit comments and related material on the EA and the MOA. If you do so, please include your name and address. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The USCGC MACKINAW (WAGB-83), constructed in 1944, was the largest and most powerful icebreaker at the time and represented the state of the art in icebreaking technology. After over 60 years of continuous service, USCGC MACKINAW (WAGB-83) has reached the end of its service life. The USCG is required to identify and declare excess property. The USCG would decommission and excess the USCGC MACKINAW (WAGB-83) in 2006 through the Federal Real Property Service Act and Federal Real Property Management Regulations, unless a Congressional mandate to transfer ownership of the vessel to another entity is issued.

Preparation of the EA for the decommissioning and excessing of USCGC MACKINAW (WAGB-83) is being conducted in accordance with the National Environmental Policy Act (NEPA) of 1969 (Section 102[2][c]) and its implementing regulations at Title 40 Code of Federal Regulations, Part 1500.

Environmental Assessment

An EA has been prepared for the proposed action. The EA identifies and examines reasonable alternatives and assesses their potential impact to the environment.

As a result of the USCG reporting the vessel as “excess personal property,” as that term is defined in the Federal Property Management Regulations, Title 41, Part 102, Section 36.40 of the Code of Federal Regulations (41 CFR 102-36.40), the vessel could eventually be removed from USCG custody and control, and possibly Federal ownership through one of the following processes: (1) Specific or “special” legislation directing or authorizing conveyance of the vessel to a specific entity (requires enactment of legislation by Congress and subsequent signing into law by President); (2) the General Services Administration (GSA) personal property disposal process for transfer to other Federal agencies, (41 CFR 102-36); (3) the GSA personal property disposal process for conveyance to a state or local government, or non-profit organization (41 CFR 102-37); (4) the GSA personal property disposal process for sale to the highest bidder; (5) direct Coast Guard transfer to the USCG Auxiliary, Service Educational Activities (SEA's), or a non-profit public body or private organization, (14 U.S.C. 641); ) or (6) if transfer of ownership through one of the above processes is not possible, scrapping of the vessel.

The Coast Guard initiated Section 106 consultation under that National Historic Preservation Act. The consultation was conducted with the Michigan State Historic Preservation Officer (MISHPO) acting as the lead State Historic Preservation Officer for states bordering the Great Lakes. USCG and MISHPO developed a Memorandum of Agreement for the decommissioning of the USCGC MACKINAW (WAGB-83) and its declaration as excess property. The General Services Administration and the Illinois State Historic Preservation Officer also participated in consultation and concur with the MOA.

We are requesting your comments on environmental concerns you may have related to the EA.

Dated: October 25, 2005.
G.T. Blore,
Director, Operations Policy.

[FR Doc. 05-21875 Filed 11-1-05; 8:45 am]

BILLING CODE 4910-15-P